ENVIRONMENTAL PROTECTION AGENCY

[ER-FRL-6660-6]

Environmental Impact Statements; Notice of Availability

Responsible Agency: Office of Federal Activities, General Information (202) 564-7167 or http://www.epa.gov/compliance/nepa/.

Weekly receipt of Environmental Impact Statements

Filed February 7, 2005 Through February 11, 2005

Pursuant to 40 CFR 1506.9.

EIS No. 050055, Final EIS, AFS, AL, Longleaf Ecosystem Restoration Project, Proposes a Five-Year Project to Begin Restoration of Native Longleaf, Talladega National Forest, Oakmulgee District, Tuscaloosa, Hale, Bibbs and Perry Counties, AL, Wait Period Ends: March 21, 2005, Contact: Jim Shores (205) 926-9765.

EIS No. 050056, Draft EIS, FHW, TX, Trinity Parkway Project, Construction of Limited Access Toll Facility from IH-35 E/TX-183 to U.S. -175/TX 310, U.S. Army COE Section 10 and 404 Permits, Dallas County, TX, Comment Period Ends: April 4, 2005, Contact: Salvador Deocampo (512) 536-5950.

EIS No. 050057, Final EIS, AFS, MT, Bridger Bowl Ski Area, Permit Renewal and Master Development Plan Update, Implementation, Special Use Permit and COE Section 404 Permit, Gallatin National Forest, in the City of Bozeman, MT, Wait Period Ends: March 21, 2005, Contact: Nancy Halstrom (406) 522-2520.

EIS No. 050058, Final EIS, NAS, HI, Outrigger Telescopes Project, Proposed for the W.M. Keck Observatory Site within the Mauna Kea Science Reserve, Funding, Construction, Installation and Operation, Island of Hawaii, Wait Period Ends: March 21, 2005, Contact: Kenneth M. Kumor (202) 358-1112.

EIS No. 050059, Draft EIS, NPS, VA, Manassas National Battlefield Park Bypass Study, From US-29 East of Park Boundary and VA-234 South of Park Boundary to U.S. 29 West of Park Boundary and VA-234 North of Park Boundary, U.S. Army COE Section 404 Permit, Prince William and Fairfax Counties, VA, Comment Period Ends: April 4, 2005, Contact: Jack Van Dop (703) 404-6282. This document is available on the Internet at: http://www.battlefiedbypass.com.

EIS No. 050060, Draft EIS, COE, TX, Cedar Bayou Navigation Channel (CBNC) Improvements Project, Implementation, Near Baytown in Harris and Chambers Counties, TX, Comment Period Ends: April 4, 2005, Contact: Dr. Terry Roberts (409) 766-3035.

EIS No. 050061, Final EIS, FHW, MN, Ayd Mill Road Corridor, Improvements from I-35 E to St. Anthony Avenue (I-94) 2.6 kilometer (1.6 miles), Funding, City of Saint Paul, Ramsey County, MN, Wait Period Ends: March 21, 2005, Contact: Cheryl Martin (651) 291-6120.

EIS No. 050062, Draft EIS, COE, NC, Fort Bragg Headquarters for XVIII Airborne Corps and Army Special Operations Command, To Determine the Level of Training on the Overhills Tract Program, Cumberland and Harnett Counties, NC, Comment Period Ends: April 4, 2005, Contact: David A. Heinz (910) 396-8207.

EIS No. 050063, Final EIS, AFS, UT, Monticello and Blanding Municipal Watershed Improvement Projects, Implementation, Manti-La Sal National Forest, Monticello Ranger District, San Juan County, UT, Wait Period Ends: March 21, 2005, Contact: Elton Chang (503) 587-4710.

EIS No. 050064, Final EIS, NIH, TX, Galveston National Laboratory for Biodefense and Emerging Infectious Diseases Research Facility at the University of Texas Medical Branch, Construction, Partial Funding, Grant, Galveston, TX, Wait Period Ends: March 22, 2005, Contact: Valerie Nottingham (301) 496-7775.

Amended Notices

EIS No. 040504, Draft EIS, SFW, CA, Coachella Valley Multiple Species Habitat Conservation Plan (MSHCP), Santa Rosa and San Jacinto Mountains Trails Plan, Issuance of Incidental Take Permits, Riverside County, CA, Comment Period Ends: March 7, 2005, Contact: Julie Concannon (503) 231-6747. Revision of FR Notice Published on 11/05/04: CEQ Comment Period Ending 02/2/2005 has been Extended to 03/07/2005.

EIS No. 050000, Draft EIS, AFS, UT, Ogden Ranger District Travel Plan, To Update the Travel Management Plan, Wasatch-Cache National Plan, Ogden Ranger District, Box Elder, Cache, Morgan, Weber and Rich Counties, UT, Comment Period Ends: March 30, 2005, Contact: Rick Vallejos (801) 625-5112. Revision of FR Notice Published on 01/14/2005: CEQ Comment Period Ending on 2/28/2005 has been Extended to 03/30/2005.

EIS No. 050004, Final EIS, SFW, WA, ID, OR, CA, Caspian Tern (sterna caspia) Management to Reduce Predation of Juvenile Salmonids in the Columbia River Esturary, To Comply with the 2002 Settlement Agreement, Endangered Species Act

(ESA), Columbia River, WA, OR, ID and CA, Wait Period Ends: February 14, 2005, Contact: Nanette Seto (503) 231-6164. Revision of FR Notice Published on 01/14/2005: Time Extended Put in by Error the Wait Ends on 2/14/2005.

Dated: February 15, 2005.
Robert W. Hargrove,
Director, NEPA Compliance Division, Office of Federal Activities.

[FR Doc. 05-3187 Filed 2-17-05; 8:45 am]

BILLING CODE 6560-50-U